DEPARTMENT OF TRANSPORTATION

Federal Aviation Administration

14 CFR Part 97

[Docket No. 30743; Amdt. No. 3390]

Standard Instrument Approach Procedures, and Takeoff Minimums and Obstacle Departure Procedures; Miscellaneous Amendments

AGENCY: Federal Aviation Administration (FAA), DOT.

ACTION: Final rule.

SUMMARY: This establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective September 15, 2010. The compliance date for each SIAP, associated Takeoff Minimums, and ODP is specified in the amendatory provisions.

The incorporation by reference of certain publications listed in the regulations is approved by the Director of the Federal Register as of September 15, 2010.

ADDRESSES: Availability of matters incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169 or

4. The National Archives and Records Administration (NARA). For information on the availability of this material at NARA, call (202) 741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue, SW., Washington, DC 20591; or

2. The FAA Regional Office of the region in which the affected airport is located.

FOR FURTHER INFORMATION CONTACT: Harry J. Hodges, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or revoking SIAPS, Takeof Minimums and/or ODPS. The complete regulators description of each SIAP and its associated Takeoff Minimums or ODP for an identified airport is listed on FAA form documents which are incorporated by reference in this amendment under 5 U.S.C. 552(a), 1 CFR part 51, and 14 CFR part 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule ” under DOT Regulatory Policies and Procedures (44 FR 11034; February 26,1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC, on September 3, 2010.
John M. Allen,
Director, Flight Standards Service.

Adoption of the Amendment

Accordingly, pursuant to the authority delegated to me, Title 14, Code of Federal Regulations, Part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 21 OCT 2010

El Dorado, AR, South Arkansas Rgnl at Goodwin Field, ILS OR LOC RWY 22, Amdt 2A

Manila, AR, Manila Muni, Takeoff Minimums and Obstacle DP, Orig

Arcata/Eureka, CA, Arcata, RNAV (GPS) RWY 32, Orig-B

Bakersfield, CA, Meadows Field, RNAV (GPS) RWY 12L, Amdt 1A

Titusville, FL, Space Coast Rgnl, ILS OR LOC RWY 36, Amdt 12

Lawrenceville, IL, Lawrenceville-Vincennes Intl, Takeoff Minimums and Obstacle DP, Orig

Pontiac, IL, Pontiac Muni, RNAV (GPS) RWY 6, Orig-A

Sturgis, MI, Kirsch Muni, Takeoff Minimums and Obstacle DP, Amdt 3

Columbus/W Point/Starkville, MS, Golden Triangle Rgnl, LOC RWY 36, Orig-A

Oklahoma City, OK, Will Rogers World, RNAV (RNP) Y RWY 17L, Amdt 1A

Oklahoma City, OK, Will Rogers World, RNAV (RNP) Z RWY 35R, Orig-B

Easton, PA, Braden Airpark, Takeoff Minimums and Obstacle DP, Amdt 1

Laredo, TX, Laredo Intl, NDB RWY 17L, Amdt 3A

Midland, TX, Midland Airpark, Takeoff Minimums and Obstacle DP, Amdt 3

Wichita Falls, TX, Kickapoo Downtown, Takeoff Minimums and Obstacle DP, Amdt 2

Janesville, WI, Southern Wisconsin Rgnl, ILS OR LOC RWY 4, Amdt 12A

West Bend, WI, West Bend Muni, VOR RWY 24, Amdt 3A

Effective 18 NOV 2010

Nome, AK, Nome, RNAV (GPS) RWY 28, Orig-A

Ruby, AK, Ruby, Takeoff Minimums and Obstacle DP, Amdt 1

Bishop, CA, Eastern Sierra Rgnl, Takeoff Minimums and Obstacle DP, Amdt 3

Mountain View, CA, Moffett Federal Airfield, Takeoff Minimums and Obstacle DP, Amdt 1

Willits, CA, Ells Field-Willits Muni, RNAV (GPS) RWY 16, Amdt 1

Willits, CA, Ells Field-Willits Muni, RNAV (GPS) RWY 34, Amdt 1

Chester, CT, Chester, Takeoff Minimums and Obstacle DP, Orig

Fort Lauderdale, FL, Fort Lauderdale/Hollywood Intl, ILS OR LOC RWY 9L, Amdt 21

Fort Lauderdale, FL, Fort Lauderdale/Hollywood Intl, ILS OR LOC RWY 27R, Amdt 9

Fort Lauderdale, FL, Fort Lauderdale/Hollywood Intl, LOC RWY 9R, Amdt 5

Fort Lauderdale, FL, Fort Lauderdale/Hollywood Intl, LOC/DME RWY 13, Amdt 1

Fort Lauderdale, FL, Fort Lauderdale/Hollywood Intl, RNAV (GPS) RWY 13, Amdt 2

Fort Lauderdale, FL, Fort Lauderdale/Hollywood Intl, RNAV (GPS) RWY 31, Amdt 2

Fort Lauderdale, FL, Fort Lauderdale/Hollywood Intl, RNAV (GPS) Y RWY 9R, Amdt 3

Fort Lauderdale, FL, Fort Lauderdale/Hollywood Intl, RNAV (GPS) Y RWY 27R, Amdt 2

Fort Lauderdale, FL, Fort Lauderdale/Hollywood Intl, RNAV (GPS) Z RWY 9L, Amdt 2

Fort Lauderdale, FL, Fort Lauderdale/Hollywood Intl, VOR RWY 27R, Amdt 12, CANCELLED

Panama City, FL, Northwest Florida Beaches Intl, ILS OR LOC/DME RWY 16, Orig-B

Panama City, FL, Northwest Florida Beaches Intl, RNAV (GPS) RWY 16, Orig-B

Panama City, FL, Northwest Florida Beaches Intl, RNAV (GPS) RWY 34, Orig-B

Panama City, FL, Northwest Florida Beaches Intl, Takeoff Minimums and Obstacle DP, Amdt 1

West Palm Beach, FL, Palm Beach Intl, VOR RWY 10L, Amdt 2A, CANCELLED

West Palm Beach, FL, Palm Beach Intl, VOR RWY 14, Amdt 3A, CANCELLED

West Palm Beach, FL, Palm Beach Intl, VOR RWY 28R, Amdt 2A, CANCELLED

West Palm Beach, FL, Palm Beach Intl, VOR RWY 32, Amdt 4A, CANCELLED

Zephyrhills, FL, Zephyrhills Muni, Takeoff Minimums and Obstacle DP, Amdt 1

Atlanta, GA, Hartsfield-Jackson Atlanta Intl, ILS OR LOC RWY 8L, ILS RWY 8L (CAT II), ILS RWY 8L (CAT III), Amdt 3B

Atlanta, GA, Hartsfield-Jackson Atlanta Intl, ILS OR LOC RWY 8R, Amdt 59B

Atlanta, GA, Hartsfield-Jackson Atlanta Intl, ILS PRM RWY 8L (CAT II), ILS PRM RWY 8L (CAT III), Orig-B (Simultaneous Close Parallel)

Atlanta, GA, Hartsfield-Jackson Atlanta Intl, ILS PRM RWY 8R, (Simultaneous Close Parallel), Orig-A

Columbus, GA, Columbus Metropolitan, Takeoff Minimums and Obstacle DP, Amdt 7

Douglas, GA, Douglas Muni, Takeoff Minimums and Obstacle DP, Amdt 2

Pine Mountain, GA, Harris County, NDB RWY 9, Amdt 9

Pine Mountain, GA, Harris County, Takeoff Minimums and Obstacle DP, Amdt 1

Gary, IN, Gary/Chicago Intl, Takeoff Minimums and Obstacle DP, Amdt 7

Indianapolis, IN, Mount Comfort, Takeoff Minimums and Obstacle DP, Amdt 2

Washington, IN, Daviess County, NDB RWY 18, Amdt 7, CANCELLED

Mayfield, KY, Mayfield Graves County, NDB RWY 36, Amdt 2, CANCELLED

Churchville, MD, Hartford County, Takeoff Minimums and Obstacle DP, Amdt 1

Westminster, MD, Carroll County Rgnl/Jack B. Poage Field, Takeoff Minimums and Obstacle DP, Amdt 5

Ann Arbor, MI, Ann Arbor Muni, Takeoff Minimums and Obstacle DP, Amdt 9

Charlotte, MI, Fitch H Beach, VOR RWY 20, Amdt 11

Detroit, MI, Coleman A. Young Muni, Takeoff Minimums and Obstacle DP, Amdt 7

Detroit, MI, Detroit Metropolitan Wayne County, Takeoff Minimums and Obstacle DP, Amdt 1

Detroit, MI, Willow Run, RNAV (GPS) RWY 5L, Orig-A

Detroit, MI, Willow Run, RNAV (GPS) RWY 9R, Amdt 1, CANCELLED

Detroit, MI, Willow Run, RNAV (GPS) RWY 23L, Amdt 1A

Detroit, MI, Willow Run, Takeoff Minimums and Obstacle DP, Amdt 10

Pontiac, MI, Oakland County Intl, Takeoff Minimums and Obstacle DP, Amdt 6

Appleton, MN, Appleton Muni, GPS RWY 13, Orig, CANCELLED

Appleton, MN, Appleton Muni, RNAV (GPS) RWY 13, Orig

Owatonna, MN, Owatonna Degner Rgnl, ILS OR LOC RWY 30, Amdt 2

Glenwood, MN, Glenwood Muni, Takeoff Minimums and Obstacle DP, Amdt 3

Silver Bay, MN, Silver Bay Muni, GPS RWY 25, Amdt 1, CANCELLED

Silver Bay, MN, Silver Bay Muni, RNAV (GPS) RWY 25, Orig

Silver Bay, MN, Silver Bay Muni, Takeoff Minimums and Obstacle DP, Amdt 1

Windom, MN, Windom Muni, Takeoff Minimums and Obstacle DP, Orig

Missoula, MT, Missoula Intl, RNAV (GPS) Y RWY 11, Amdt 2

Raeford, NC, P K Airpark, Takeoff Minimums and Obstacle DP, Amdt 1

Raleigh/Durham, NC, Raleigh-Durham Intl, Takeoff Minimums and Obstacle DP, Amdt 6

Siler City, NC, Siler City Muni, Takeoff Minimums and Obstacle DP, Amdt 1

Cooperstown, ND, Cooperstown Muni, GPS RWY 13, Orig, CANCELLED

Cooperstown, ND, Cooperstown Muni, GPS RWY 31, Orig, CANCELLED

Cooperstown, ND, Cooperstown Muni, RNAV (GPS) RWY 13, Orig

Cooperstown, ND, Cooperstown Muni, RNAV (GPS) RWY 31, Orig

Cooperstown, ND, Cooperstown Muni, Takeoff Minimums and Obstacle DP, Orig

Mesquite, NV, Mesquite, Takeoff Minimums and Obstacle DP, Orig, CANCELLED

Niagara Falls, NY, Niagara Falls Intl, RNAV (GPS) RWY 10L, Orig-A, CANCELLED

Ottawa, OH, Putnam County, VOR RWY 27, Amdt 2A

Medford, OR, Rogue Valley Intl-Medford, ILS OR LOC/DME RWY 14, Amdt 2

Medford, OR, Rogue Valley Intl-Medford, LOC/DME BC-B, Amdt 7

Medford, OR, Rogue Valley Intl-Medford, RNAV (GPS)-D, Amdt 1

Medford, OR, Rogue Valley Intl-Medford, RNAV (GPS) Y RWY 14, Amdt 1

Medford, OR, Rogue Valley Intl-Medford, RNAV (RNP) Z RWY 14, Orig

Winnsboro, SC, Fairfield County, GPS RWY 4, Orig, CANCELLED

Winnsboro, SC, Fairfield County, GPS RWY 22, Orig-B, CANCELLED

Winnsboro, SC, Fairfield County, RNAV (GPS) RWY 4, Orig

Winnsboro, SC, Fairfield County, RNAV (GPS) RWY 22, Orig

Winnsboro, SC, Fairfield County, Takeoff Minimums and Obstacle DP, Orig

Bryce Canyon, UT, Bryce Canyon, BRYCE ONE Graphic Obstacle DP

Bryce Canyon, UT, Bryce Canyon, RNAV (GPS) RWY 3, Orig

Bryce Canyon, UT, Bryce Canyon, RNAV (GPS) RWY 21, Orig

Bryce Canyon, UT, Bryce Canyon, Takeoff Minimums and Obstacle DP, Orig

Fillmore, UT, Fillmore Muni, RNAV (GPS) RWY 4, Orig

Fillmore, UT, Fillmore Muni, RNAV (GPS) RWY 22, Orig

Fillmore, UT, Fillmore Muni, Takeoff Minimums and Obstacle DP, Orig

Milwaukee, WI, Lawrence J. Timmerman, Takeoff Minimums and Obstacle DP, Amdt 1

[FR Doc. 2010-22829 Filed 9-14-10; 8:45 am]

BILLING CODE 4910-13-P